DEPARTMENT OF HEALTH AND HUMAN SERVICES

Centers for Disease Control and Prevention

[60 Day-11-11HJ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Daniel Holcomb, CDC Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Comparing the Effectiveness of Traditional Evidence-Based Tobacco Cessation Interventions to Newer and Innovative Interventions Used by Comprehensive Cancer Control Programs—New—Division of Cancer Prevention and Control, National Center for Chronic Disease Prevention and Health Promotion, Centers for Disease Control and Prevention (CDC).

Background and Brief Description

Tobacco use remains the leading preventable cause of death in the United States, causing over 443,000 deaths each year and resulting in an annual cost of more than $96 billion in direct medical expenses. The only proven strategy for reducing the risk of tobacco-related morbidity and mortality is to never smoke, or to quit if tobacco use has been initiated. In 1999, CDC's Office on Smoking and Health established the National Tobacco Control Program (NTCP) to encourage coordinated, national efforts to reduce tobacco-related morbidity and mortality. The NTCP provides funding and technical support to Tobacco Control Programs (TCPs) in all 50 states, the District of Columbia, eight Tribal support centers, eight U.S. territories or jurisdictions, and six national networks. TCPs offer evidence-based cessation interventions to increase successful quit attempts.

Tobacco control is also a top priority for Federally-funded Comprehensive Cancer Control (CCC) programs. Currently, 65 organizations are funded through CDC's National Comprehensive Cancer Control Program (NCCCP): All 50 states, the District of Columbia, seven Tribes/Tribal organizations, and seven U.S. territories/Pacific Island Jurisdictions. CCCs work to establish coalitions, assess the burden of cancer, and implement state cancer plans that address interventions from primary prevention to treatment and survivorship. The NCCCP is managed by CDC's Division of Cancer Prevention and Control (DCPC).

Evidence-based tobacco cessation interventions include counseling offered through telephone quitlines (QLs) as well as Web-based counseling services. Although all states currently provide a telephone QL, only 0.05% to 7.25% of adult smokers receive tobacco cessation services via a state QL each year. Mass media (e.g., television, radio, print) has been shown to be the most important and consistent driver of call volume to QLs in some localities, but is resource intensive. Two recent studies comparing the relative effectiveness of telephone versus Web-based interventions have begun to clarify the impact of each intervention but are limited in their generalizability to current TCP activities. To date there are no comprehensive studies that have examined TCP promotional strategies, the populations affected by these strategies, and their effect on QL and Web-based cessation program usage.

To address this gap in knowledge, CDC proposes to conduct a new study of state-based TCPs and their client populations. The study will consist of two components: (1) Quitline promotional activities, and (2) cessation intervention.

Quitline Promotional Activities. The overall goal of this study component is to characterize state-based TCP promotional activities in terms of type and level of advertising; impact in relation to QL call volume; and client characteristics. This study component is based on existing sources of information and entails minimal burden to respondents. Up to 50 state-based TCPs will be asked to participate over a 15-month period. Responding states will provide media purchasing information related to cessation promotional activities and permission to extract de-identified QL call volume data from the National Quitline Data Warehouse (NQDW, OMB No. 0920-0856, exp. 7/31/2012). CDC's data collection contractor will also attempt to obtain Web traffic data using publicly available tools.

Cessation Intervention. The overall goal of this study component is to describe relationships among mode of cessation service delivery (telephone vs. Web); client demographics; and quit success in the last 30 days. A total of 8,000 respondents aged 18 years (4,000 clients who use QL services and 4,000 clients who use Web-based services) will be recruited to participate in the study on a voluntary basis. Regular access to cessation services will be provided to individuals who choose not to participate in this study. Respondents will be recruited from up to four states over a period of up to 12 months. The four participating states must be current NCCCP grantees, have existing relationships with their state TCP, have both telephone and Web-based tobacco cessation programs, and have a state-wide QL registry that conforms to the North American Quitline Consortium's Minimal Data Set (MDS), which provides the framework for the NQDW data collection.

Information collection for the cessation study component will consist of an intake data using MDS-compliant questions and a follow-up survey seven months after intake. There is minimal burden associated with transmission of intake information to CDC, since this information is already collected by states that are eligible to participate in the study. The seven-month follow-up survey for the cessation study component is a modified version of the follow-up survey administered for the NQDW data collection, and will replace or supplement the NQDW follow-up process. The follow-up survey for the cessation study component will be administered online or by telephone.

The results of this study will provide TCPs, policymakers, CDC, and others with additional evidence for decisionmaking regarding the impact of promotional activities and the comparative effectiveness of traditional versus new and innovative cessation services. The proposed study will complement and extend the usefulness of a companion study of partnerships between CCC programs and tobacco control programs. Both studies are made possible by funding through the American Reinvestment and Recovery Act (ARRA).

OMB approval is requested for two and one-half years. There are no costs to respondents other than their time.

Estimated Annualized Burden Hours
Type of respondent | Form name | Number of respondents | Number of responses per respondent | Average burden per response (in hr) | Total burden (in hr)
Tobacco Control Programs | Quitline Promotion Activities Data | 25 | 4 | 1 | 100
| Intake Data for QL Clients | 2 | 4 | 15/60 | 2
| Follow-up Survey for QL Clients | 2 | 1,000 | 15/60 | 500
| Intake Data for Web Services Clients | 2 | 4 | 15/60 | 2
| Follow-up Survey for Web Services Clients | 2 | 1,000 | 15/60 | 500
Total |  |  |  |  | 1,104

Dated: June 8, 2011.
Daniel Holcomb,
Reports Clearance Officer, Centers for Disease Control and Prevention.

[FR Doc. 2011-14792 Filed 6-14-11; 8:45 am]

BILLING CODE 4163-18-P